DEPARTMENT OF LABOR

Office of the Secretary

Agency Information Collection Activities; Submission for OMB Review; Comment Request; Department of Labor Generic Clearance for the Collection of Qualitative Feedback on Agency Service Delivery

ACTION: Notice of availability; request for comments.

SUMMARY: The Department of Labor (DOL) is submitting this Office of the Assistant Secretary for Administration and Management (OASAM)-sponsored information collection request (ICR) to the Office of Management and Budget (OMB) for review and approval in accordance with the Paperwork Reduction Act of 1995 (PRA). Public comments on the ICR are invited.

DATES: The OMB will consider all written comments that agency receives on or before November 30, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: This information collection activity will be used to garner qualitative customer and stakeholder feedback in accordance with the Administration's commitment to improving service delivery. Qualitative feedback, in this context, is defined as information that provides useful insights on perceptions and opinions, but are not statistical surveys that yield quantitative results that can be generalized to the population of study. These collections will:

• Provide insights into customer or stakeholder perceptions, experiences, and expectations;

• provide an early warning of issues with service;

• focus attention on areas where communication, training, or changes, in operations might improve delivery of products or services;

• provide ongoing, collaborative, and actionable communications between the DOL and its customers and stakeholders. These collections will also allow feedback to contribute directly to the improvement of program management. Feedback collected under this generic clearance will provide useful information, but it will not yield data that can be generalized to the overall population.

This type of generic clearance for qualitative information will not be used for quantitative information collections that are designed to yield reliably actionable results such as, for example, monitoring trends over time or documenting program performance. Those sorts of data usages require more rigorous designs that address:

• The target population to which generalizations will be made;

• the sampling frame;

• the sample design (including stratification and clustering);

• the precision requirements or power calculations that justify the proposed sample size;

• the expected response rate;

• methods for assessing potential nonresponse bias;

• the protocols for data collection; and

• any testing procedures that were or will be undertaken prior fielding the study.

Depending on the degree of influence the results are likely to have, such collections may still be eligible for submission for other generic mechanisms that are designed to yield quantitative result. For additional substantive information about this ICR, see the related notice published in the Federal Register on August 26, 2020 (85 FR 52641).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OASAM.

Title of Collection: Department of Labor Generic Clearance for the Collection of Qualitative Feedback on Agency Service Delivery.

OMB Control Number: 1225-0088.

Affected Public: Individuals or Households; State, Local, and Tribal Governments; Private Sector: businesses or other for-profits, farms, and not for profit institutions.

Total Estimated Number of Responses: 380,000.

Total Estimated Annual Time Burden: 38,000 hours.

Total Estimated Annual Other Costs Burden: $0.

Authority: 44 U.S.C. 3507(a)(1)(D).

Dated: October 23, 2020.
Anthony May,
Management and Program Analyst.

[FR Doc. 2020-23900 Filed 10-28-20; 8:45 am]

BILLING CODE 4510-04-P